DEPARTMENT OF COMMERCE

National Oceanic and Atmospheric Administration

[RTID 0648-XD605]

Notice of Availability of Draft Environmental Assessment on the Effects of Permitting Translocation of Sturgeon for Scientific Research and Enhancement Under the of the Endangered Species Act

AGENCY: National Marine Fisheries Service (NMFS), National Oceanic and Atmospheric Administration (NOAA), Commerce.

ACTION: Notice of availability of a draft environmental assessment; request for comments.

SUMMARY: NOAA has prepared a draft programmatic environmental assessment (PEA) under the National Environmental Policy Act of 1969 (NEPA) analyzing the environmental impacts of the NMFS, Office of Protected Resources' proposal to authorize directed take under the sturgeon Endangered Species Act (ESA) permitting program for the translocation of shortnose (Acipenser brevirostrum) and Atlantic (A. oxyrinchus oxyrinchus) sturgeon needed to achieve recovery objectives. We are making the draft PEA available to the public for review and comment.

DATES: Written comments must be submitted on or before January 26, 2024.

ADDRESSES: The draft PEA may be downloaded or viewed at: https://www.fisheries.noaa.gov/action/draft-environmental-assessment-permitting-translocation-sturgeon-scientific-research-and. Please submit public comments via email to NMFS.Pr1Comments@noaa.gov with the subject line “Public Comment on Draft PEA for Permitting Sturgeon Translocation”. No business proprietary information, copyrighted information, or personally identifiable information should be submitted in response to this request. Please be aware that comments submitted may be posted on a Federal website or otherwise released publicly. Clearly indicate which section, page number, and line number, if applicable, submitted comments pertain to. All comments must be provided in English. Please note that the U.S. Government will not pay for response preparation, or for the use of any information contained in the response.

FOR FURTHER INFORMATION CONTACT: Erin Markin, Ph.D., erin.markin@noaa.gov, (301) 427-8416; Malcolm Mohead, malcolm.mohead@noaa.gov, (301) 427-8427.

SUPPLEMENTARY INFORMATION: This draft PEA serves as a framework to analyze the potential impacts on the natural and human environments for the authorization of directed take of sturgeon by translocation, in scientific research or enhancement permits under section 10(a)(1)(A) of the ESA, to achieve recovery objectives. For the purposes of the sturgeon permitting program, translocation is the intentional capture, holding, handling, transport, and release of individuals within a river system (e.g., translocation of fish across a dam or fish passage) or between river systems within the U.S. historical range of Atlantic and shortnose sturgeon (i.e., Maine to Florida). NMFS proposes to authorize directed take for the translocation of ESA-listed Atlantic and shortnose sturgeon as a research or enhancement activity to support sturgeon conservation management and recovery objectives. NMFS proposes to authorize translocation concurrent with additional research or enhancement activities, if the research or enhancement activity's objectives are (1) stated as a term and condition to implement reasonable and prudent measures of an active biological opinion, (2) an identified objective in a NMFS recovery outline or recovery plan for the species, or (3) determined necessary by NMFS Regional Offices and the NMFS Office of Protected Resources (OPR) to recover the species. Programmatic NEPA reviews add value and efficiency to the decision making process when they inform the scope of decisions and subsequent tiered NEPA reviews. Therefore, NMFS decided that completing a PEA for the proposed action was appropriate.

This document has been prepared in compliance with NEPA (42 U.S.C. 4321, et seq.), the 2020 Council on Environmental Quality (CEQ) Regulations (40 CFR 1500-1508) as modified by the Phase 1 2022 revisions, and NOAA policy and procedures (NOAA Administrative Order 216-6A (NAO 216-6A and its Companion Manual).

Dated: December 21, 2023.
Amy Sloan,
Acting Chief, Permits and Conservation Division, Office of Protected Resources, National Marine Fisheries Service.

[FR Doc. 2023-28505 Filed 12-26-23; 8:45 am]

BILLING CODE 3510-22-P